CHEMICAL SAFETY AND HAZARD INVESTIGATION BOARD

Sunshine Act Meeting

The United States Chemical Safety and Hazard Investigation Board announces that it will convene a Public Meeting beginning at 9:30 a.m. local time on September 25, 2001, at 2175 K Street, Suite 400 Conference Room. The CSB will discuss the agency's draft recommendations policy guidelines. The draft Recommendations Program policy is available at www.csb.gov for public review.

The meeting will be open to the public. Please notify CSB if a translator or interpreter is needed, 10 business days prior to the public meeting. For more information, please contact the Chemical Safety and Hazard Investigation Board's Office of Congressional and Public Affairs, (202) 261-7600, or visit our website.

Christopher W. Warner,
General Counsel.

[FR Doc. 01-22299 Filed 8-30-01; 4:25 pm]

BILLING CODE 6350-50-P